DEPARTMENT OF TRANSPORTATION

Federal Aviation Administration

14 CFR Part 39

[Docket No. FAA-2015-4808; Directorate Identifier 2014-NM-134-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200, -200 Freighter, and -300 series airplanes; and Model A340-200 and -300 series airplanes. This proposed AD was prompted by reports that cracks were found on an adjacent hole of certain frames of the center wing box (CWB). This proposed AD would require removing fasteners, a rototest inspection of fastener holes, installing new fasteners; and if necessary, oversizing the holes and doing rototest inspections for cracks, and repairing any cracking that is found. We are proposing this AD to detect and correct cracking on certain holes of certain frames of the CWB, which could affect the structural integrity of the airplane.

DATES: We must receive comments on this proposed AD by December 17, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-4808; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-4808; Directorate Identifier 2014-NM-134-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0149, dated June 13, 2014 (referred to after this as the Mandatory Continuing Airworthiness Information, or “the MCAI”), to correct an unsafe condition for certain Airbus Model A330-200, -200 Freighter, and -300 series airplanes; and Model A340-200 and -300 series airplanes. The MCAI states:

During accomplishment of A330 Airworthiness Limitation Item (ALI) task 57-11-04 on the rear fitting of the Frame (FR) 40 between stringers 38 and 39 on both [left-hand] LH/[right-hand] RH sides, cracks were found on an adjacent hole. After reaming at second oversize of the subject hole, the crack was still present.

Other crack findings on this adjacent hole have been reported on A330 and A340-200/-300 aeroplanes as a result of sampling inspections.

This condition, if not detected and corrected, could affect the structural integrity of the aeroplane.

For the reasons described above, this [EASA] AD requires removal of the fasteners and repetitive rototest inspections of fastener holes at FR40 vertical web located above Center Wing Box (CWB) lower panel reference and/or below CWB lower panel reference on both sides and, depending on findings, accomplishment of the applicable corrective actions.

Note: These holes affected by this [EASA] AD are different from the ones affected by EASA AD 2009-0001 [http://ad.easa.europa.eu/blob/easa_ad_2009_0001.pdf/AD_2009-0001_1].

Required actions also include oversizing certain holes, installing new fasteners, and repairing any cracking that is found. The initial compliance times range from 13,500 to 30,900 flight cycles, or 57,000 to 162,000 flight hours, depending on operation and utilization. The repetitive compliance times are 7,400 flight cycles/24,300 flight hours or 5,950 flight cycles/40,400 flight hours from ALI embodiment. You may examine the MCAI in the AD docket on the Internet at http://www.regulations.gov by searching for and locating Docket No. FAA-2015-4808.

Related Service Information Under 1 CFR Part 51

Airbus has issued the following service information. The service information describes procedures for removing the fasteners and doing a repetitive rototest inspection of fastener holes at frame (FR) 40 vertical web on both sides, installing new fasteners in transition fit, and oversizing the holes.

• Airbus Service Bulletin A330-57-3114, dated March 12, 2013.

• Airbus Service Bulletin A330-57-3115, dated April 4, 2013.

• Airbus Service Bulletin A330-57-3116, dated March 12, 2013.

• Airbus Service Bulletin A340-57-4123, dated March 12, 2013.

• Airbus Service Bulletin A340-57-4124, Revision 01, dated August 22, 2013.

• Airbus Service Bulletin A340-57-4125, dated March 12, 2013.

This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 35 airplanes of U.S. registry.

We also estimate that it would take about 78 work-hours per product to comply with the basic requirements of this proposed AD. The average labor rate is $85 per work-hour. Required parts would cost about $0 per product. Based on these figures, we estimate the cost of this proposed AD on U.S. operators to be $232,050, or $6,630 per product, per inspection cycle.

In addition, we estimate that any necessary follow-on actions would take up to 98 work-hours and require parts costing $136,400, for a cost of up to $144,730 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-4808; Directorate Identifier 2014-NM-134-AD.

(a) Comments Due Date

We must receive comments by December 17, 2015.

(b) Affected ADs

None.

(c) Applicability

This AD applies to the airplanes identified in paragraphs (c)(1) and (c)(2) of this AD, certificated in any category, all manufacturer serial numbers, except those on which Airbus Modification (Mod) 55792 or Mod 55306 has been embodied in production, and except those on which Airbus Repair Instruction R57115092 has been embodied in service on both right-hand (RH) and left-hand (LH) sides.

(1) Airbus Model A330-201, -202, -203, -223, -223F, -243 -243F, -301, -302, -303, -321, -322, -323, -341, -342, and -343 airplanes.

(2) Airbus Model A340-211, -212, -213, -311, -312, and -313 airplanes.

(d) Subject

Air Transport Association (ATA) of America Code 57, Wings.

(e) Reason

This AD was prompted by reports that cracks were found on an adjacent hole of certain frames of the center wing box (CWB). We are issuing this AD to detect and correct cracking on certain holes of the CWB, which could affect the structural integrity of the airplane.

(f) Compliance

Comply with this AD within the compliance times specified, unless already done.

(g) Inspection

Do a rototest inspection of the fastener holes at the frame (FR) 40 vertical web, on both sides, as specified in table 1 to paragraph (g) of this AD, except as required by paragraph (k) of this AD.

Table 1 to paragraph (g) of this AD—Compliance Location, Method, and Time
For model | In configuration | Inspect | In accordance with the accomplishment instructions of | At the later of—: The applicable time specified in paragraph 1.E., “Compliance,” of | At the later of—: And the earlier of
A330-300 series airplanes | Pre-mod 44360 | Below the CWB lower panel reference | Airbus Service Bulletin A330-57-3114, dated March 12, 2013 | Airbus Service Bulletin A330-57-3114, dated March 12, 2013 | Within 2,400 flight cycles or 24 months after the effective date of this AD.
A330-200 and -300 series airplanes | Post-mod 44360 and pre-mod 49202 | Below the CWB lower panel reference | Airbus Service Bulletin A330-57-3116, dated March 12, 2013 | Airbus Service Bulletin A330-57-3116, dated March 12, 2013 | Within 2,400 flight cycles or 24 months after the effective date of this AD.
A330-200 and -300 series airplanes | Pre-mod 55306 and pre-mod 55792 | Above the CWB lower panel reference | Airbus Service Bulletin A330-57-3115, dated April 4, 2013 | Airbus Service Bulletin A330-57-3115, dated April 4, 2013 | Within 2,400 flight cycles or 24 months after the effective date of this AD.
A340-200 and -300 series airplanes | Pre-mod 44360 | Below the CWB lower panel reference | Airbus Service Bulletin A340-57-4123, dated March 12, 2013 | Airbus Service Bulletin A340-57-4123, dated March 12, 2013 | Within 1,300 flight cycles or 24 months after the effective date of this AD.
A340-200 and -300 series airplanes | Pre-mod 55306 and pre-mod 55792 | Above the CWB lower panel reference | Airbus Service Bulletin A340-57-4124, Revision 01, dated August 22, 2013 | Airbus Service Bulletin A340-57-4124, Revision 01, dated August 22, 2013 | Within 1,300 flight cycles or 24 months after the effective date of this AD.
A340-200 and -300 series airplanes | Post-mod 44360 and pre-mod 4902 | Below the CWB lower panel reference | Airbus Service Bulletin A340-57-4125, dated March 12, 2013 | Airbus Service Bulletin A340-57-4125, dated March 12, 2013 | Within 1,300 flight cycles or 24 months after the effective date of this AD.

(h) Follow-On Actions: No Cracking

If no crack is found during any inspection required by paragraph (g) of this AD, do the actions specified in paragraphs (h)(1) and (h)(2) of this AD.

(1) Before further flight, install new fasteners in the transition fit, in accordance with the Accomplishment Instructions of the service information identified in table 1 to paragraph (g) of this AD; as applicable.

(2) Repeat the inspection required by paragraph (g) of this AD thereafter at the applicable time identified in paragraph 1.E., “COMPLIANCE,” of the service information identified in table 1 to paragraph (g) of this AD; as applicable.

(i) Follow-On Actions for Crack Findings

If any crack is found during any inspection required by paragraph (g) of this AD: Before further flight, oversize the holes to the first oversize in comparison with the current hole diameter, and do a rototest inspection for cracks, in accordance with the Accomplishment Instructions of the service information identified in table 1 to paragraph (g) of this AD; as applicable.

(1) If no cracking is found during the rototest inspection required by paragraph (i) of this AD, do the actions specified in paragraphs (i)(1)(i) and (i)(1)(ii) of this AD.

(i) Before further flight: Install new fasteners in the transition fit, in accordance with the Accomplishment Instructions of the service information identified in table 1 to paragraph (g) of this AD; as applicable.

(ii) Repeat the inspection required by paragraph (g) of this AD thereafter at the applicable time identified in paragraph 1.E., “COMPLIANCE,” of the service information identified in table 1 to paragraph (g) of this AD; as applicable.

(2) If cracking is found during the rototest inspection required by paragraph (i) of this AD, before further flight, repair using a method approved by the Manager, International Branch, ANM-116, Transport Airplane Directorate, FAA; or the European Aviation Safety Agency (EASA); or Airbus's EASA Design Organization Approval (DOA).

(j) Terminating Action Specifications

Accomplishment of the initial and repetitive inspections required by this AD terminates accomplishment of Airworthiness Limitation Items Tasks 57-11-04 and 57-11-02 of the Airworthiness Limitation Section (ALS) Part 2, Damage Tolerant Airworthiness Limitation Items (DT ALI).

(1) Installation of new fasteners as specified in paragraph (h)(1) of this AD does not terminate the repetitive inspections required by paragraph (g) of this AD.

(2) Accomplishment of the corrective actions specified in paragraphs (i) and (i)(1) of this AD does not terminate the repetitive inspections required by paragraph (g) of this AD.

(3) Accomplishment of the repair specified in paragraph (i)(2) of this AD does not terminate repetitive inspections required by paragraph (g) of this AD, unless the approved repair method specified otherwise.

(k) Exceptions to Service Information

(1) If the service information identified in table 1 to paragraph (g) of this AD specifies contacting Airbus for appropriate action: Before further flight, repair using a method approved by the Manager, International Branch, ANM-116, Transport Airplane Directorate, FAA; or the EASA; or Airbus's EASA DOA.

(2) Where paragraph 1.E., “Compliance,” of the service information specified in table 1 to paragraph (g) of this AD specifies a Compliance Time in terms of a “Threshold” and “Grace Period,” this AD requires compliance at the later of the applicable Threshold and Grace Period.

(3) Where paragraph 1.E., “Compliance,” of the service information specified in table 1 to paragraph (g) of this AD specifies a Threshold as “before next flight,” this AD requires compliance before the next flight after the applicable finding.

(l) Credit for Previous Actions

This paragraph provides credit for actions required by paragraphs (g) and (i) of this AD, if those actions were performed before the effective date of this AD using the service information specified in paragraph (l)(1), (l)(2), (l)(3), (l)(4), (l)(5), (l)(6), (l)(7), (l)(8), or (l)(9) of this AD. This service information is not incorporated by reference in this AD.

(1) Airbus Technical Disposition Reference LR57D11023270, Issue B, dated July 12, 2011.

(2) Airbus Technical Disposition Reference LR57D11029171, Issue B, dated September 6, 2011.

(3) Airbus Technical Disposition Reference LR57D11029173, Issue B, dated September 6, 2011.

(4) Airbus Technical Disposition Reference LR57D11030741, Issue B, dated September 22, 2011.

(5) Airbus Technical Disposition Reference LR57D11029170, Issue C, dated September 6, 2011.

(6) Airbus Technical Disposition Reference LR57D11023714, Issue B, dated July 12, 2011.

(7) Airbus Technical Disposition Reference LR57D11029172, Issue B, dated September 6, 2011.

(8) Airbus Technical Disposition Reference LR57D11030740, Issue C, dated September 22, 2011.

(9) Airbus Service Bulletin A340-57-4124, dated April 4, 2013.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA Design Organization Approval (DOA). If approved by the DOA, the approval must include the DOA-authorized signature.

(n) Related Information

(1) Refer to Mandatory Continuing Airworthiness Information (MCAI) EASA Airworthiness Directive 2014-0149, dated June 13, 2014, for related information. This MCAI may be found in the AD docket on the Internet at http://www.regulations.gov by searching for and locating Docket No. FAA-2015-4808.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on October 21, 2015.
Jeffrey E. Duven,
Manager, Transport Airplane Directorate, Aircraft Certification Service.

[FR Doc. 2015-27725 Filed 10-30-15; 8:45 am]

BILLING CODE 4910-13-P